DEPARTMENT OF ENERGY

Federal Energy Regulatory Commission

[Docket No. CP15-94-000; Docket No. CP15-96-000; Docket No. CP15-93-000]

Panhandle Eastern Pipe Line Company, LP; Trunkline Gas Company, LLC; Rover Pipeline LLC; Notice of Intent To Prepare an Environmental Impact Statement for the Proposed Panhandle Backhaul Project and Trunkline Backhaul Project, and Request for Comments on Environmental Issues

The staff of the Federal Energy Regulatory Commission (FERC or Commission) will analyze the environmental impacts of the Panhandle Backhaul Project and Trunkline Backhaul Project, involving the modification and upgrades of existing facilities by Panhandle Eastern Pipe Line Company, LP (Panhandle) and Trunkline Gas Company, LLC (Trunkline), in the Commission's environmental impact statement (EIS) currently under preparation for the Rover Pipeline Project in Docket No. CP15-93-000. The Panhandle Backhaul Project would modify existing facilities in Michigan, Ohio, Indiana, and Illinois. The Trunkline Backhaul Project would modify existing facilities in Illinois, Tennessee, and Mississippi. Both projects would increase backhaul capacity to flow natural gas volumes from the Rover Pipeline Project. The Commission will use the EIS in its decision-making process to determine whether the projects are in the public convenience and necessity.

This notice announces the opening of the scoping process the Commission will use to gather input from the public and interested agencies on the Panhandle Backhaul Project and Trunkline Backhaul Project. You can make a difference by providing us with your specific comments or concerns about these two projects. Your comments should focus on the potential environmental effects, reasonable alternatives, and measures to avoid or lessen environmental impacts. Your input will help the Commission staff determine what issues they need to evaluate in the EIS. To ensure that your comments are timely and properly recorded, please send your comments so that the Commission receives them in Washington, DC on or before June 1, 2015.

If you sent comments on these projects to the Commission before the opening of these dockets on February 23, 2015, you will need to file those comments in Docket No. CP15-94-000 for the Panhandle Backhaul Project and Docket No. CP15-96-000 for the Trunkline Backhaul Project to ensure they are considered as part of these proceedings.

This notice is being sent to the Commission's current environmental mailing list for these projects. State and local government representatives should notify their constituents of these proposed projects and encourage them to comment on their areas of concern.

If you are a landowner receiving this notice, a pipeline company representative may contact you about the acquisition of an easement or lease to construct, operate, and maintain the proposed facilities. The company would seek to negotiate a mutually acceptable agreement. However, if the Commission approves the projects, that approval conveys with it the right of eminent domain. Therefore, if easement negotiations fail to produce an agreement, the pipeline company could initiate condemnation proceedings where compensation would be determined in accordance with state law.

A fact sheet prepared by the FERC entitled “An Interstate Natural Gas Facility on My Land? What Do I Need To Know?” is available for viewing on the FERC Web site (www.ferc.gov). This fact sheet addresses a number of typically-asked questions, including the use of eminent domain and how to participate in the Commission's proceedings.

Public Participation

For your convenience, there are three methods you can use to submit your comments to the Commission. The Commission encourages electronic filing of comments and has expert staff available to assist you at (202) 502-8258 or efiling@ferc.gov. Please carefully follow these instructions so that your comments are properly recorded.

You can file your comments electronically using the eComment feature on the Commission's Web site (www.ferc.gov) under the link to Documents and Filings. This is an easy method for submitting brief, text-only comments on a project;

You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

You can file a paper copy of your comments by mailing them to the following address. Be sure to reference the projects' docket numbers (CP15-94-000 for the Panhandle Backhaul Project and CP15-96-000 for the Trunkline Backhaul Project) with your submission: Kimberly D. Bose, Secretary, Federal Energy Regulatory Commission, 888 First Street NE., Room 1A, Washington, DC 20426.

Summary of the Proposed Projects

Panhandle and Trunkline are proposing the upgrades and modifications to allow for bi-directional flow of natural gas on their existing pipeline systems. Modifications and upgrades along the Panhandle system would occur at existing facilities in Lenawee County, Michigan; Allen and Defiance Counties, Ohio; Hamilton, Marion, Parke, and Vermillion Counties, Indiana; and Douglas County, Illinois. The Panhandle Backhaul Project would include:

New pipe, valves, fittings, and associated materials to allow for bi-directional flow at the Edgerton, Zionsville, Montezuma, and Tuscola Compressor Stations;

minor piping, pressure controls, valves, fittings, and associated materials at Edgerton 10 Gate, Zionsville 3 Gate, and Tuscola 6 Gate; and

tap valves and associated piping for an interconnect with the proposed Rover Pipeline Project at the Rover Defiance Compressor Station.

Modifications and upgrades along the Trunkline system would occur at existing facilities in Douglas and Wayne Counties, Illinois; Dyer County, Tennessee; and Tate County, Mississippi. The Trunkline Backhaul Project would include:

New pipe, valves, fittings, and associated materials to allow for bi-directional flow at the Johnsonville, Joppa, Dyersburg, and Independence Compressor Stations;

new pipe, valves, fittings, meters, regulators, and other associated materials at the Bourbon Meter Station; and

tap valves and associated piping for an interconnect with the Panhandle Backhaul Project at the Tuscola Compressor Station.

The general locations of the Panhandle and Trunkline project facilities are shown in appendix 1.¹

¹ The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the Panhandle facilities would disturb a total of 230.2 acres of land on or surrounding Panhandle's permanent right-of-way or lands leased or owned by Panhandle. Any land disturbance associated with the modifications and upgrades would occur within previously disturbed areas.

Construction of the Trunkline facilities would disturb a total of 204.3 acres of land within the existing facility sites or within Trunkline's permanent right-of-way. Any land disturbance associated with the modifications and upgrades would occur within previously disturbed areas.

The EIS Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the proposed projects under these general headings:

Geology and soils;

land use;

socioeconomics;

water resources,

cultural resources;

vegetation and wildlife;

air quality and noise;

endangered and threatened species;

public safety; and

cumulative impacts

We will also evaluate reasonable alternatives to the proposed projects or portions of the projects, and make recommendations on how to lessen or avoid impacts on the various resource areas.

The FERC staff is in the process of preparing an EIS for the Rover Pipeline Project. Five other agencies are participating as cooperating agencies in the preparation of this EIS: The U.S. Environmental Protection Agency, U.S. Fish and Wildlife Service, U.S. Army Corps of Engineers, and Ohio Environmental Protection Agency. With this notice, we are asking other agencies with jurisdiction by law and/or special expertise with respect to environmental issues related the Panhandle and/or Trunkline projects to formally cooperate with us in the preparation of the EIS.³ Agencies that would like to request cooperating agency status should follow the instructions for filing comments provided under the Public Participation section of this notice.

³ The Council on Environmental Quality regulations addressing cooperating agency responsibilities are at Title 40, Code of Federal Regulations, Part 1501.6.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

Consultations Under Section 106 of the National Historic Preservation Act

In accordance with the Advisory Council on Historic Preservation's implementing regulations for section 106 of the National Historic Preservation Act, we are using this notice to initiate consultation with the applicable State Historic Preservation Office(s) (SHPO), and to solicit their views and those of other government agencies, interested Indian tribes, and the public on the projects' potential effects on historic properties.⁴ The EIS will document our findings on the impacts on historic properties and summarize the status of consultations under section 106. We note that Panhandle has a signed categorical exclusion with Illinois SHPO and Trunkline has signed categorical exclusions with Illinois and Tennessee SHPOs. These categorical exclusions exempt work activities within existing facilities from further review by the SHPOs.

⁴ The Advisory Council on Historic Preservation's regulations are at Title 36, Code of Federal Regulations, Part 800. Those regulations define historic properties as any prehistoric or historic district, site, building, structure, or object included in or eligible for inclusion in the National Register of Historic Places.

We will define the project-specific Area of Potential Effects (APE) in consultation with the SHPO(s) as the projects develop. On natural gas facility projects, the APE at a minimum encompasses all areas subject to ground disturbance (examples include construction right-of-way, contractor/pipe storage yards, compressor stations, and access roads). Our EIS for these projects will document our findings on the impacts on historic properties and summarize the status of consultations under section 106.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the projects. We will update the environmental mailing list as the analysis proceeds to ensure that we send the information related to this environmental review to all individuals, organizations, and government entities interested in and/or potentially affected by the proposed projects.

Copies of the completed draft EIS will be sent to the environmental mailing list for public review and comment. If you would prefer to receive a paper copy of the document instead of the CD version or would like to remove your name from the mailing list, please return the attached Information Request (appendix 2).

Becoming an Intervenor

In addition to involvement in the EIS scoping process, you may want to become an “intervenor” which is an official party to the Commission's proceedings. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the projects is available from the Commission's Office of External Affairs, at (866) 208-FERC, or on the FERC Web site at www.ferc.gov using the “eLibrary” link. Click on the eLibrary link, click on “General Search” and enter the docket number, excluding the last three digits in the Docket Number field (i.e., CP15-94, CP15-96, CP15-93). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: May 1, 2015.
Kimberly D. Bose,
Secretary.

[FR Doc. 2015-10969 Filed 5-6-15; 8:45 am]

BILLING CODE 6717-01-P